UNIFIED CARRIER REGISTRATION PLAN

Sunshine Act Meetings

TIME AND DATE: July 24, 2024, 12 p.m. to 3 p.m., eastern time.

PLACE: This meeting will be accessible via conference call and via Zoom Meeting and Screenshare. Any interested person may call (i) 1-929-205-6099 (US Toll) or 1-669-900-6833 (US Toll), Meeting ID: 999 8197 2433, to listen and participate in this meeting. The website to participate via Zoom Meeting and Screenshare is https://kellen.zoom.us/meeting/register/tJ0kf-ihqTkuGdcjv8CMQkMh-IRAi34YhShl.

STATUS: This meeting will be open to the public.

MATTERS TO BE CONSIDERED: The Unified Carrier Registration Plan Education and Training Subcommittee (the “Subcommittee”) will continue its work in developing and implementing the Unified Carrier Registration Plan and Agreement. The subject matter of this meeting will include:

Proposed Agenda

I. Call to Order—UCR Education and Training Subcommittee Chair

The UCR Education and Training Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Education and Training Subcommittee Chair

For Discussion and Possible Subcommittee Action

The Subcommittee Agenda will be reviewed, and the Subcommittee will consider adoption.

Ground Rules

➢ Subcommittee action only to be taken in designated areas on agenda

IV. Review and Approval of Subcommittee Minutes From the February 15, 2024 Subcommittee Meeting—UCR Education and Training Subcommittee Chair

For Discussion and Possible Subcommittee Action

Draft minutes from the February 15, 2024 Subcommittee meeting will be reviewed. The Subcommittee will consider action to approve.

V. Project Development—UCR Education and Training Subcommittee Chair

The UCR Education and Training Subcommittee Chair will discuss the development of key projects. The projects that will be discussed include the development of the educational audit certificate program, the optimization and redesign of the website, and the creation of a video explaining the purpose and value of the UCR Plan and the National Registration System it operates.

VI. Other Business—UCR Education and Training Subcommittee Chair

The UCR Education and Training Subcommittee Chair will call for any other items Subcommittee members would like to discuss.

VII. Adjournment—UCR Education and Training Subcommittee Chair

The UCR Education and Training Subcommittee Chair will adjourn the meeting.

The agenda will be available no later than 5 p.m. eastern time, July 16, 2024 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-16246 Filed 7-19-24; 11:15 am]

BILLING CODE 4910-YL-P